DEPARTMENT OF HOUSING AND URBAN DEVELOPMENT

[Docket No. FR-5130-N-24]

Privacy Act of 1974; Notice of a Computer Matching Program Between the U.S. Department of Housing and Urban Development (HUD) and the U.S. Department of Veterans Affairs (VA)

AGENCY: Office of the Chief Information Officer, HUD.

ACTION: Notice of a Computer Matching Program between HUD and VA.

SUMMARY: In accordance with the Privacy Act of 1974 (5 U.S.C. 552a), as amended by the Computer Matching and Privacy Protection Act of 1988 (Pub. L. 100-503), and the Office of Management and Budget (OMB) Guidelines on the Conduct of Matching Programs (54 FR 25818 (June 19, 1989); and OMB Bulletin 89-22, “Instructions on Reporting Computer Matching Programs to the Office of Management and Budget (OMB), Congress and the Public,” HUD is issuing a public notice of its intent to conduct a recurring computer matching program with VA to utilize a computer information system of HUD, the Credit Alert Interactive Voice Response System (CAIVRS), with VA's debtor files.

DATES: Effective Date: Computer matching is expected to begin on June 30, 2008, or at least 40 days from the date copies of the signed (by both agencies' Data Integrity Boards (DIBs)) computer matching agreement are sent to the Office of Management and Budget (OMB) and Congress, whichever is later unless comments are received, which will result in a contrary determination.

Comments Due Date: June 30, 2008.

ADDRESSES: Interested persons are invited to submit comments regarding this notice to the Rules Docket Clerk, Office of General Counsel, Department of Housing and Urban Development, 451 Seventh Street, SW., Room 10276, Washington, DC 20410. Communications should refer to the above docket number and title. A copy of each communication submitted will be available for public inspection and copying between 8 a.m. and 5 p.m. weekdays at the above address.

For Further Information From Recipient Agency Contact: Donna Robinson-Staton, Departmental Privacy Act Officer, Department of Housing and Urban Development, 451 Seventh Street, SW., Room 2256, Washington, DC 20410, telephone number (202) 402-8073. [This is not a toll-free number.] A telecommunication device for hearing- and speech-impaired individuals (TTY) is available at 1-800-877-8339 (Federal Information Relay Service).

For Further Information From Source Agency Contact: Jorgeana Williams, Debt Management Center, Department of Veterans Affairs, Bishop Henry Whipple Federal Building, Room 156E, 1 Federal Drive, Ft. Snelling, MN 55111-4050, telephone number (612) 970-5703. [This is not a toll-free number.]

Reporting: In accordance with Public Law 100-503, the Computer Matching and Privacy Protection Act of 1988, as amended, and OMB Bulletin 89-22, “Instructions on Reporting Computer Matching Programs to the Office of Management and Budget (OMB), Congress and the Public,” copies of this Notice and report are being provided to the Committee on Oversight and Government Reform of the House of Representatives, the Committee on Homeland Security and Governmental Affairs of the Senate, and the Office of Management and Budget.

Authority: HUD has authority to collect and review mortgage data pursuant to the National Housing Act, as amended, 12 U.S.C. 1701 et seq., and related laws. The VA is authorized, pursuant to 38 U.S.C. 3710, to determine that any veteran who obtains a VA-guaranteed home loan poses a satisfactory credit risk. This computer matching will be conducted pursuant to Public Law 100-503, “The Computer Matching and Privacy Protection Act of 1988,” as amended, and the Office of Management and Budget (OMB) Circulars A-129 (Managing Federal Credit Programs). OMB Circular A-129 was issued under the authority of the Budget and Accounting Act of 1921, as amended; the Budget and Accounting Act of 1950, as amended; the Debt Collection Act of 1982, as amended by the Debt Collection Improvement Act of 1996; Section 2653 of Public Law 98-369; the Federal Credit Reform Act of 1990, as amended; the Federal Debt Collection Procedures Act of 1990, the Chief Financial Officers Act of 1990, as amended; Executive Order 8248; the Cash Management Improvement Act Amendments of 1992; and pre-existing common law authority to charge interest on debts and to offset payments to collect debts administratively.

Objectives to be Met by the Matching Program: HUD's primary objective for continuing the matching program is to permit prescreening of applicants for Federal Credit Programs, to ensure that applicants are not delinquent on a Federal loan or have defaulted on a direct or guaranteed loan. HUD will be provided access to VA's debtor data for prescreening purposes.

In this computer matching program, each month HUD/CAIVRS receives limited information on borrowers who have defaulted on loans administered by participating federal agencies. This information includes: Social Security Number (SSN) or Employer Identification Number (EIN), case number, Federal Agency identifying code, and record type. Participating agencies also provide HUD with a file containing authorized lenders/business partners. When federal agency personnel or authorized lenders access CAIVRS, they must enter a user authorization code followed by either an SSN or EIN (for businesses and non-profits). Only the following information is returned/displayed:

• Yes/No as to whether the holder of that SSN/EIN is in default on a Federal loan; and

• If Yes, then CAIVRS provides to the lender:

• Loan case number;

• Record type (claim, default, foreclosure, or judgment);

• Agency administering the loan program; and

• Phone # at that agency (to call to clear up the default)

• Confirmation Code associated with the query

By law, processing of applications for Federal Credit benefits (such as government-insured loans) must be suspended when applicants are delinquent on Federal debt. Processing may continue only when the debtor satisfactorily resolves the debt (e.g., pays in full or renegotiates a new payment plan). To remove a CAIVRS sanction, the borrower must use the information provided to contact the agency that reported their SSN or EIN to HUD/CAIVRS.

Records to be Matched: HUD will use records from its systems of records entitled, HUD/SFH-01, Single Family Default Monitoring System; HUD/SFH-02, Single Family Insurance System CLAIMS Subsystem; HUD/HS-55, Debt Collection Asset Management System; and HUD/HS-57, Single Family Mortgage Notes. The debtor files for programs involved are included in these systems of records. HUD's debtor files contain information on borrowers and co-borrowers who are currently in default (at least 90 days delinquent on their loans or who have had their partial claim subordinate mortgage called due and payable and it has not been repaid in full); or who have any outstanding claims paid during the last three years on a Title II insured or guaranteed home mortgage loans; or individuals who had a claim paid in the last three years on a Title I loan.

The VA will provide HUD with debtor files contained in its system of records entitled SS-VA26, Loan Guaranty Systems of Records. Central Accounts Receivable On Line System is a subsidiary of SS-VA26. HUD is maintaining VA's records only as a ministerial action on behalf of VA, not as a part of HUD's systems of records. VA's data contain information on individuals who have defaulted on their guaranteed loans. The VA will retain ownership and responsibility for their systems of records that they place with HUD. HUD serves only as a record location and routine use recipient for VA's data.

Notice Procedures: HUD and the VA will notify individuals at the time of application (ensuring that routine use appears on the application form) for guaranteed or direct loans that their records will be matched to determine whether they are delinquent or in default on a Federal debt. HUD and the VA will also publish notices concerning routine use disclosures in the Federal Register to inform individuals that a computer match may be performed to determine a loan applicant's credit status with the federal government.

Categories of Records/Individuals Involved: The debtor records include these data elements from HUD's systems of records, SSN, claim number, program code, and indication of indebtedness. Categories of records include: Records of claims and defaults, repayment agreements, credit Reports, financial statements, and records of foreclosures. Categories of individuals include: Former mortgagors and purchasers of HUD-owned properties, home improvement loan debtors who are delinquent or in default (at least 90-days delinquent on their loans or who have had their partial claim subordinate mortgage called due and payable and has not been paid in full); or who have any outstanding claims paid during the last three years on a title II insured or guaranteed home mortgage loans, or individual who has claim paid in the last three years on a Title I loan.

Period of the Match: Matching will begin at least 40 days from the date copies of the signed (by both agencies DIBS) computer matching agreements are sent to both Houses of Congress or at least 30 days from the date this Notice is published in the Federal Register, whichever is later, providing no comments are received which would result in a contrary determination. The matching program will be in effect and continue for 18 months with an option to renew for 12 additional months unless one of the parties to the agreement advises the other in writing to terminate or modify the agreement.

Dated: May 22, 2008.
Joseph M. Milazzo,
Acting Chief Information Officer.

[FR Doc. E8-12050 Filed 5-29-08; 8:45 am]

BILLING CODE 4210-67-P